DEPARTMENT OF HOMELAND SECURITY

Federal Emergency Management Agency

44 CFR Part 67

[Docket No. FEMA-B-7731]

Proposed Flood Elevation Determinations

AGENCY: Federal Emergency Management Agency, DHS.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Directorate, Federal Emergency Management Agency, 500 C Street, SW., Washington, DC 20472, (202) 646-3151.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This proposed rule is not a significant regulatory action under the criteria of section 3(f) of Executive Order 12866 of September 30, 1993, Regulatory Planning and Review, 58 FR 51735.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground: Effective | * Elevation in feet (NGVD) + Elevation in feet (NAVD) # Depth in feet above ground: Modified | Communities affected
Tulsa County, Oklahoma, and Incorporated Areas
East Blackjack Creek Tributary | Confluence with East Creek | +620 | +619 | Unincorporated Areas of Tulsa County, City of Collinsville.
| Approximately 1590 ft downstream of N. 135th Ave E | None | +651
East Branch Haikey Creek | Approximately 10 feet upstream of Date Ave | +707 | +706 | City of Broken Arrow.
| Approximately 1050 feet upstream of S. Main St | +719 | +720
Floral Haven Creek | Confluence with Haikey Creek | +670 | +674 | City of Broken Arrow.
| Approximately 100 ft downstream of N. Aspen Ave | +724 | +726
Haikey Creek | Intersection with W. Houston St | +659 | +661 | City of Broken Arrow.
| Approximately 270 ft downstream of E. State Highway 51 | +730 | +727
Little Haikey Creek | Confluence with Haikey Creek | +623 | +624 | City of Broken Arrow.
| Approximately 30 ft. downstream of E. 76th St | +724 | +725
Middle Branch Haikey Creek | Confluence with East Branch Haikey Creek | +650 | +651 | City of Broken Arrow.
| Approximately 50 ft downstream of W. Kenosha St | +712 | +716
Olive Creek | Confluence with Haikey Creek | +656 | +655 | City of Broken Arrow.
| At intersection with Kenosha St | None | +700
Park Grove Creek | Confluence with Middle Branch Haikey Creek | +684 | +685 | City of Broken Arrow.
| Approximately 100 ft downstream of N. Elm Pl | +718 | +720
Turtle Creek | Approximately 2000 Ft downstream of Aspen intersection | +663 | +666 | City of Broken Arrow.
| Approximately 100 ft downstream of W. Houston St | +706 | +704
West Branch Haikey Creek Tributary | Confluence with West Branch Haikey Creek | +664 | +667 | City of Broken Arrow.
| Approximately 580 Ft downstream of W. Elgin St | +670 | +674
* National Geodetic Vertical Datum.
# Depth in feet above ground.
+ North American Vertical Datum.
ADDRESSES
City of Broken Arrow
Maps are available for inspection at 115 E. Commercial Street, Broken Arrow, OK 74013.
Send comments to The Honorable Wade McCaleb, Mayor, City of Broken Arrow, PO Box 610, Broken Arrow, OK 74013.
City of Collinsville
Maps are available for inspection at 106 N. 12th St., Collinsville, OK 74021.
Send comments to The Honorable Stan Sallee, Mayor, City of Collinsville, PO Box 730, Collinsville, OK 74021.
Unincorporated Areas of Tulsa County
Maps are available for inspection at 633 West 3rd, Room 140, Tulsa, OK 74127.
Send comments to The Honorable Randi Miller, Commissioner Chairman, 500 South Denver, Tulsa, OK 74103.
Unicoi County, Tennessee, and Incorporated Areas
Nolichucky River | Approximately 1,400 feet downstream of the confluence of South Indian Creek | +1639 | +1638 | City of Erwin, Unincorporated Areas of Unicoi County.
| Approximately 2,280 feet upstream of the Chestoa Pike Bridge | +1690 | +1690
North Indian Creek | Approximately 1,170 feet downstream of the Interstate 26 Bridge | +1834 | +1832 | Town of Unicoi, Unincorporated Areas of Unicoi County.
| Approximately 100 feet downstream of the confluence of Scioto Creek | +1924 | +1920
South Indian Creek | Approximately 440 feet upstream of the confluence with Nolichucky River | +1643 | +1641 | Unincorporated Areas of Unicoi County, City of Erwin.
| Approximately 290 feet upstream of the Sandy Bottom Road Bridge | +1681 | +1680
* National Geodetic Vertical Datum.
# Depth in feet above ground.
+ North American Vertical Datum.
ADDRESSES
City of Erwin
Maps are available for inspection at Erwin Town Hall, 211 North Main Avenue, Erwin, TN 37650.
Send comments to W. Don Lewis, Mayor, Post Office Box 59, Erwin, TN 37650-0059.
Town of Unicoi
Maps are available for inspection at Unicoi Town Hall, 3600 Unicoi Drive, Unicoi, TN 37692.
Send comments to Johnny M. Lynch, Mayor, Post Office Box 39, Unicoi, TN 37692-0039.
Unincorporated Areas of Unicoi County
Maps are available for inspection at Post Office Box 169, Erwin, TN 37650-0169.
Send comments to Larry Rose, Mayor, Post Office Box 169, Erwin, TN 37650-0169.

(Catalog of Federal Domestic Assistance No. 97.022, “Flood Insurance.”)

Dated: August 9, 2007.
David I. Maurstad,
Federal Insurance Administrator of the National Flood Insurance Program, Department of Homeland Security, Federal Emergency Management Agency.

[FR Doc. E7-16277 Filed 8-17-07; 8:45 am]

BILLING CODE 9110-12-P